DEPARTMENT OF AGRICULTURE

Commodity Credit Corporation

Request for Revision and Extension of a Currently Approved Information Collection

AGENCY: Commodity Credit Corporation (CCC), USDA.

ACTION: Notice and request for comments.

SUMMARY: In accordance with the Paperwork Reduction Act of 1995, this notice announces the intention of CCC to request a revision and extension of an information collection approved under an emergency clearance with respect to the Standards for Approval of Dry and Cold Storage Warehouses for Processed Agricultural Commodities, Extracted Honey, and Bulk Oils “Standards of Approval of Warehouses.” The information collection will allow CCC to administer the Honey Storage Agreement as authorized by the CCC Charter Act, 15 U.S.C. 714 et seq.

DATES: Comments on this notice must be received on or before May 3, 2002, to be assured consideration.

ADDITIONAL INFORMATION OR COMMENTS: Contact Shirlene Engle, USDA, Farm Service Agency, Warehouse and Inventory Division, Storage Contract Branch, STOP 0553, 1400 Independence Avenue, SW., Washington, DC 20250-0553, (202) 720-7398; e-mail Shirlene—Engle@wdc.fsa.usda.gov.

SUPPLEMENTARY INFORMATION: Title: Standards for Approval of Warehouses' Reporting and Recordkeeping Requirements.

OMB Control Number: 0560-0216.

Expiration Date: March 31, 2002.

Type of Request: Revision and extension of a currently approved information collection.

Abstract: The information collected under OMB Control Number 0560-0216, as identified above, allows CCC to administer the Honey Storage Agreement authorized by the CCC Charter Act. The information collected allows CCC to contract for warehouse storage and related services and to monitor and enforce all honey provisions of 7 CFR part 1423. The forms approved by this information collection are furnished to interested warehouse operators or used by warehouse examiners employed by CCC to secure and record information about the warehouse and its operator. The information collected is necessary to provide those charged with executing contracts for CCC a basis upon which to determine whether the warehouse and the warehouse operator meet applicable standards for a contract and to determine compliance once the contract is approved.

Estimate of Burden: Public reporting burden for this information collection is estimated to average .7 hours per response.

Respondents: Warehouse Operators.

Estimated Number of Respondents: 75.

Estimated Number of Responses per Respondent: 12.

Estimated Total Annual Burden on Respondents: 2,557 hours.

Proposed topics for comment include: (a) Whether the collection of information is necessary for the proper performance of the functions of the agency, including whether the information will have practical utility; (b) the accuracy of CCC's estimate of burden including the validity of the methodology and assumptions used; (c) enhancing the quality, utility, and clarity of the information collected; and (d) minimizing the burden of the collection of the information on those who are to respond, including through the use of appropriate automated, electronic, mechanical, or other technological collection techniques or other forms of information technology. Comments should be sent to the Desk Officer for Agriculture, Office of Information and Regulatory Affairs, Office of Management and Budget, Washington, DC 20503, and to Shirlene Engle at the address listed above. All comments will become a matter of public record.

A comment to OMB is best assured of having its full effect if OMB receives it within 30 days of publication.

Signed at Washington, DC, on January 28, 2002.
James R. Little,
Executive Vice President, Commodity Credit Corporation.

[FR Doc. 02-5009 Filed 3-1-02; 8:45 am]

BILLING CODE 3410-05-P